DEPARTMENT OF ENERGY

Federal Energy Regulatory Commission

Combined Notice of Filings #1

Take notice that the Commission received the following exempt wholesale generator filings:

Docket Numbers: EG22-206-000.

Applicants: AES Energy Storage, LLC.

Description: AES Energy Storage, LLC submits Notice of Self-Certification of Exempt Wholesale Generator Status.

Filed Date: 8/18/22.

Accession Number: 20220818-5039.

Comment Date: 5 p.m. ET 9/8/22.

Take notice that the Commission received the following electric rate filings:

Docket Numbers: ER22-2685-000.

Applicants: Southwest Power Pool, Inc.

Description: § 205(d) Rate Filing: Revisions to WMEC Charter to Modify Voting Structure to be effective 10/18/2022.

Filed Date: 8/18/22.

Accession Number: 20220818-5040.

Comment Date: 5 p.m. ET 9/8/22.

Docket Numbers: ER22-2686-000.

Applicants: PJM Interconnection, L.L.C.

Description: § 205(d) Rate Filing: Original WMPAs, Service Agreement Nos. Ranging 6558 to 6569; Queue No. AD2-059 to be effective 7/19/2022.

Filed Date: 8/18/22.

Accession Number: 20220818-5042.

Comment Date: 5 p.m. ET 9/8/22.

Docket Numbers: ER22-2687-000.

Applicants: Wheelabrator Frackville Energy Company Inc.

Description: Tariff Amendment: Notice of Cancellation to be effective 8/19/2022.

Filed Date: 8/18/22.

Accession Number: 20220818-5052.

Comment Date: 5 p.m. ET 9/8/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 18, 2022.
Debbie-Anne A. Reese,
Deputy Secretary.

[FR Doc. 2022-18266 Filed 8-23-22; 8:45 am]

BILLING CODE 6717-01-P